DEPARTMENT OF HOMELAND SECURITY

Federal Emergency Management Agency

[FEMA Docket ID 2007-0007]

National Response Framework

AGENCY: Federal Emergency Management Agency, DHS.

ACTION: Notice of availability; request for comments.

SUMMARY: The Federal Emergency Management Agency (FEMA) is accepting comments on the revised National Response Plan now known as the National Response Framework (NRF). The NRF was drafted to build upon the current National Response Plan, incorporate lessons-learned from recent disasters, and to articulate more clearly the roles of the States, tribal, and local jurisdictions and the private sector to guide a successful response to natural disasters or terrorist attacks.

DATES: Comments must be received by October 11, 2007.

ADDRESSES: The NRF is available online in the NRF Resource Center located at http://www.fema.gov/NRF. You may also view a hard copy of the NRF at the Office of Chief Counsel, Federal Emergency Management Agency, Room 835, 500 C Street, SW., Washington, DC 20472. You may submit comments on the NRF, identified by Docket ID FEMA-2007-0007, by one of the following methods:

Federal eRulemaking Portal: http://www.regulations.gov. Follow the instructions for submitting comments.

E-mail: FEMA-POLICY@dhs.gov. Include Docket ID FEMA-2007-0007 in the subject line of the message.

Fax: 866-466-5370.

Mail/Hand Delivery/Courier: Regulation & Policy Team, Office of Chief Counsel, Federal Emergency Management Agency, Room 835, 500 C Street, SW., Washington, DC 20472.

Instructions: All Submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

Docket: For access to the docket to read background documents or comments received, go to the Federal eRulemaking Portal at http://www.regulations.gov. Submitted comments may also be inspected at FEMA, Office of Chief Counsel, Room 835, 500 C Street, SW., Washington, DC 20472.

FOR FURTHER INFORMATION CONTACT: Andrew Slaten, Acting National Response Framework Branch Chief, Federal Emergency Management Agency, 999 E Street, NW., Washington, DC 20463, 202-646-8152.

SUPPLEMENTARY INFORMATION: The National Response Framework (NRF) builds on the current National Response Plan and, using the comprehensive framework of the National Incident Management System (NIMS), serves as a guide to how the nation conducts all-hazards incident management. By adopting the term “framework” within the title, the document is now more in keeping with its intended purpose, specifically, simplifying the language, presentation and content; broadening the focus from a purely Federal plan to one that is national in its focus.

The Department provides the current draft of the NRF for public comment; it does not necessarily reflect the final policy of the Administration.

The NRF explains the common discipline and structures that have been exercised and matured at the local, State and national levels over time. It captures key lessons learned from Hurricanes Katrina and Rita, particularly how the Federal government is organized to support communities and States in catastrophic incidents.

The NRF is applicable to all Federal departments and agencies that may be requested to provide assistance or conduct operations in the context of actual or potential disasters and includes mechanisms for the coordination and implementation of a wide variety of incident management and emergency assistance activities including Federal support to State, local, and tribal authorities; interaction with private-sector organizations; and the coordinated, direct exercise of Federal authorities, when appropriate.

The NRF is written especially for government executives, private-sector leaders and emergency management practitioners. At the same time, it informs emergency management practitioners, explaining the operating structures and tools used routinely by first responders and emergency managers at all levels of government.

FEMA seeks comment on the NRF, which is available online in the NRF Resource Center located at http://www.fema.gov/NRF.

Authority: Homeland Security Act of 2002, Public Law 107-296, Homeland Security Presidential Directive-5, Management of Domestic Incidents.

Dated: August 31, 2007.
R. David Paulison,
Administrator, Federal Emergency Management Agency.

[FR Doc. E7-17974 Filed 9-10-07; 8:45 am]

BILLING CODE 9110-21-P